DEPARTMENT OF STATE

[Public Notice 8174]

Notice of Availability of Finding of No Significant Impact for the Proposed NOVA Chemicals Inc. Line 20 Facility Conversion Project

SUMMARY: The purpose of this notice is to inform the public of the availability of the Department of State's Finding of No Significant Impact on the proposed NOVA Chemicals Inc. Line 20 Facilities Conversion Project. Under E.O. 13337 the Secretary of State is authorized to issue Presidential Permits for the construction, connection, operation, or maintenance at the borders of the United States, of facilities for the exportation or importation of liquid petroleum, petroleum products, or other non-gaseous fuels to or from a foreign country. NOVA Chemicals Inc. (NOVA) has applied to the Department of State (the Department) for reinstatement of a Presidential Permit authorizing it to operate and maintain existing pipeline facilities at the U.S.-Canada international boundary near Marysville, St. Clair County, Michigan.

NOVA states that it intends to convert these pipeline facilities, consisting of approximately 1,350 feet of 12-inch diameter pipeline (the Line 20 Facilities), from natural gas transmission to natural gas liquids transportation service in order to transport natural gas liquids, principally ethane, from U.S. sources of supply to a petrochemical complex located in Corunna, Ontario, Canada. The Corunna complex is owned and operated by NOVA Chemicals (Canada) Ltd. (NOVA Ltd.) which, like NOVA Chemicals Inc., is a subsidiary of NOVA Chemicals Corporation (NOVA Corporation). According to NOVA its conversion of the Line 20 Facilities from natural gas to natural gas liquids service will return the Line 20 Facilities to the service for which a Presidential Permit was issued in 1986. Consistent with NEPA (42 U.S.C. 4321, et seq.), the regulations of the Council on Environmental Quality (40 CFR 1500-1508), and the Department's implementing regulations (22 CFR part 161, and in particular 22 CFR 161.7(c)), the Department of State has found that issuance of a Presidential Permit authorizing the construction, connection, operation, and maintenance of the Cross Border Facility would not have a significant impact on the quality of the human environment. The Finding of No Significant Impact was signed by the Department on January 19, 2013.

The Finding of No Significant Impact is available from the Department at: http://www.state.gov/e/enr/applicant/applicants/c54799.htm.

FOR FURTHER INFORMATION CONTACT: Genevieve Walker, Office of Environmental Quality and Transboundary Issues, Department of State, Washington, DC 20520, Tel: 202-647-9798, Email: walkerg@state.gov.

Dated: January 29, 2012.
George N. Sibley,
Director, Office of Environmental Quality and Transboundary Issues, Department of State.

[FR Doc. 2013-02399 Filed 2-1-13; 8:45 am]

BILLING CODE 4710-09-P